DEPARTMENT OF ENERGY

Federal Energy Regulatory Commission

Notice of Recreation Plan and Soliciting Comments, Motions To Intervene, and Protests

November 30, 2000.

Take notice that the following hydroelectric application has been filed with the Commission and is available for public inspection:

a. Application Type: Recreation Plan.

b. Project No.: 10810-015.

c. Date Filed: December 15, 1999.

d. Applicant: Wolverine Power Corporation.

e. Name of Project: Smallwood Project.

f. Location: The project is located on the Tittabawassee River in Hay Township, Gladwin County, Michigan. The project does not occupy any Federal or tribal lands.

g. Field Pursuant to: Federal Power Act 16 U.S.C. 791(a)-825(r).

h. Applicant Contact: Anthony Gamage, Operations Manager, Wolverine Power Corporation, 6000 S. M-30, P.O. Box 147, Edenville, Michigan 48620.

i. FERC Contact: Steve Naugle, steven.naugle@ferc.fed.us, 202-219-2805.

j. Deadline for filing comments and or motions: January 6, 2001. All documents (original and eight copies) should be filed with Mr. David P. Boergers, Secretary, Federal Energy Regulatory Commission, 888 First Street, NE, Washington, DC 20426. Comments and protests may be filed electronically via the internet in lieu of paper. See, 18 CFR 385.2001(a)(1)(iii) and the instructions on the Commission's web site at http://www.ferc.fed.us/efi/doorbell.htm. Please reference the following number, P-10810-015, on any comments or motions filed.

k. Description of the Applicant: The application is a proposed recreation plan required by article 409 of the project license. The plan provides for a fishing access site at the project dam, including a barrier-free fishing pier on the shoreline dike near the dam, a tailwater fishing pier, a 15-vehicle parking area with designated barrier-free parking spaces, a barrier-free restroom, connecting access paths, and directional signs; a canoe portage around the project dam; and signs that identify the project's recreational facilities. The plan also includes design drawings for the proposed recreation facilities, a cost estimate for constructing the facilities, and a schedule for completing construction of the facilities.

l. Locations of the Application: A copy of the application is available for inspection and reproduction at the Commission's Public Reference Room, at 888 First Street, NE, Room 2A, Washington, DC 20426, or by calling 202-208-1371. The application may be viewed on-line at http:\\www.ferc.fed.us/online/rims.htm (call 202-208-2222 for assistance). A copy is also available for inspection and reproduction at the address in item h above.

m. Individuals desiring to be included on the commission's mailing list should so indicate by writing to the Secretary of the Commission.

Comments, Protests, or Motions to Intervene—anyone may submit comments, a protest, or a motion to intervene in accordance with the requirements of Rules of Practice and Procedure, 18 CFR 385.210, .211, .214. In determining the appropriate action to take, the Commission will consider all protests or other comment filed, but only those who file a motion to intervene in accordance with the Commission's Rules may become a party to the proceeding. Any comments, protests, or motions to intervene must be received on or before the specified comment date for the particular application.

Filing and Service of Responsive Documents—Any filings must bear in all capital letters the title “COMMENTS,” “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street NE, Mail Stop PJ-12.1, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-30985 Filed 12-5-00; 8:45 am]

BILLING CODE 6717-01-M